DEPARTMENT OF COMMERCE

International Trade Administration

[A-552-801]

Frozen Fish Fillets from Vietnam: Notice of Extension of Time Limit for Preliminary Results of Antidumping Duty Administrative Review and Partial Rescission of Administrative Review

AGENCY: Import Administration, International Trade Administration, Department of Commerce.

EFFECTIVE DATE: March 3, 2008.

FOR FURTHER INFORMATION CONTACT: Catherine Bertrand, AD/CVD Operations, Office 9, Import Administration, International Trade Administration, U.S. Department of Commerce, 14th Street and Constitution Avenue, NW, Washington, DC 20230; telephone: (202) 482-3207.

SUPPLEMENTARY INFORMATION:

Background

On September 25, 2007, the Department of Commerce (“Department”) initiated an antidumping duty administrative review on frozen fish fillets from Vietnam. See Initiation of Antidumping and Countervailing Duty Administrative Reviews and Requests for Revocation in Part, 72 FR 54428 (September 25, 2007). The Department initiated this review with respect to 32 companies. The period of review is August 1, 2006 through July 31, 2007. The preliminary results of this administrative review are currently due no later than May 2, 2008. On October 17, 2007, Vinh Quang Fisheries Corporation withdrew its request for review. On December 19, 2007, Vinh Hoan Company Limited and Vinh Hoan Corporation withdrew their requests for review. On December 20, 2007, Petitioners withdrew its request for review with respect to twenty-seven companies, including Vinh Quang Fisheries Corporation, Vinh Hoan Company Limited, and Vinh Hoan Corporation.

Statutory Time Limits

Section 751(a)(3)(A) of the Tariff Act of 1930, as amended (“the Act”), requires the Department to make a preliminary determination within 245 days after the last day of the anniversary month of an order for which a review is requested and a final determination within 120 days after the date on which the preliminary results are published. However, if it is not practicable to complete the review within these time periods, section 751(a)(3)(A) of the Act allows the Department to extend the time limit for the preliminary determination to a maximum of 365 days after the last day of the anniversary month.

Extension of Time Limit for Preliminary Results of Review

We determine that it is not practicable to complete the preliminary results of this review within the original time limit because the Department requires additional time to analyze the supplemental questionnaire responses, issue additional supplemental questionnaires, as well as to evaluate what would be the most appropriate surrogate values to use during the period of review. Therefore, the Department is extending the time limit for completion of the preliminary results by 120 days. The preliminary results will now be due no later than September 2, 2008, which is the first business day after the 120-day extension. The final results continue to be due 120 days after the publication of the preliminary results.

Partial Rescission of Review

The applicable regulation, 19 CFR 351.213(d)(1), states that if a party that requested an administrative review withdraws the request within 90 days of the publication of the notice of initiation of the requested review, the Secretary will rescind the review. Petitioners withdrew their review request with respect to twenty seven exporters of subject merchandise within the 90-day deadline, in accordance with 19 CFR 351.213(d)(1). Also, within the 90-day deadline respondents Vinh Quang Fisheries Corporation, Vinh Hoan Company Limited, and Vinh Hoan Corporation withdrew their respective requests for review. Requests for review from An Giang Fisheries Import and Export Joint Stock Company (aka Agifish or AnGiang Fisheries Import and Export) and Anvifish Co., Ltd., were not withdrawn by respondents.

Therefore, we are partially rescinding this review of the antidumping duty order on frozen fish fillets from Vietnam with respect to the following twenty five companies, because all requesting parities for these companies timely withdrew the requests for review: An Giang Agriculture and Food Import Export Company (aka Afiex, A. Seafood, Afiex Seafood, or An Giang Afiex Company); Basa Co., Ltd.; Can Tho Agricultural and Animal Products Import Export Company (aka Cataco); Cantho Seafood Export (aka CASEAFOOD); Can Tho Animal Fishery Products Processing Export Enterprise (aka Cafatex); Cantho Import Export Seafood Joint Stock Company (aka CASEAMEX); CL-Fish Co., Ltd. (aka Cuu Long Fish Company); Da Nang Seaproducts Import-Export Corporation (aka Da Nang or Seaprodex Danang); Duyen Hai Foodstuffs Processing Factory (aka COSEAFEX); East Sea Seafoods Joint Venture Co., Ltd.; Gepimex 404 Company; Hai Nam Co., Ltd.; Hai Vuong Co., Ltd.; Hoan An Fishery Co., Ltd.; Hung Vuong Co., Ltd.; Kim Anh Co., Ltd.; Mekongfish Company (aka Mekonimex or Mekong Fisheries Joint Stock Company); Nam Viet Company Limited (aka NAVICO); Ngoc Thai Company, Ltd.; Southern Fishery Industries Company, Ltd. (aka South Vina); Viet Hai Seafood Company Limited (aka Vietnam Fish-One Co., Ltd.); Vinh Hoan Corporation; Vinh Hoan Company, Ltd.; Vinh Long Import-Export Company (aka Imex Cuu Long); and, Vinh Quang Fisheries Corporation. The following seven companies remain in this administrative review: An Giang Fisheries Import and Export Joint Stock Company (aka Agifish or AnGiang Fisheries Import and Export); Anvifish Co., Ltd., An Xuyen Company Ltd., QVD Food Company, Ltd., QVD Dong Thap Food Co., Ltd., Thuan Hung Co., Ltd. (aka THUFICO), and Lian Heng Trading Co., Ltd.

Assessment

The Department will instruct U.S. Customs and Border Protection (“CBP”) to assess antidumping duties on all appropriate entries. For those companies for which this review is rescinded, antidumping duties shall be assessed at rates equal to the cash deposit of estimated antidumping duties required at the time of entry, or withdrawal from warehouse, for consumption, in accordance with 19 CFR 351.212(c)(1)(I). The Department will issue appropriate assessment instructions directly to CBP within 15 days of publication of this notice.

Notification of Interested Parties

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs“) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(3)(A), 777(I), 751, and 777(I) of the Act and 19 CFR 351.213(d)(4).

Dated: February 22, 2008.
Stephen J. Claeys,
Deputy Assistant Secretary for Import Administration.

[FR Doc. E8-4052 Filed 2-29-08; 8:45 am]

BILLING CODE 3510-DS-S